NATIONAL AERONAUTICS AND SPACE ADMINISTRATION

48 CFR Part 1832

Extension of Class Deviations for SBIR Contracts

AGENCY: National Aeronautics and Space Administration (NASA).

ACTION: Final rule.

SUMMARY: This is a final rule amending the NASA FAR Supplement (NFS) to extend the advance payments and incremental funding class deviations for Small Business Innovation Research (SBIR) program contracts.

EFFECTIVE DATE: June 1, 2001.

FOR FURTHER INFORMATION CONTACT: Mr. Ronald Lentz, NASA Headquarters, Office of Procurement, Contract Management Division (Code HK), Washington, DC 20546, telephone: (202) 358-1064, e-mail: ronald.lentz@hq.nasa.gov.

SUPPLEMENTARY INFORMATION:

A. Background

NFS 1832.402(e)(1)(B)(a) provides a class deviation authorizing the use of advance payments for Phase I contracts awarded under the SBIR program. NFS 1832.702-70(a), (b), and (c) set forth conditions when incremental funding is permitted. NFS 1832.702-70(e) provides a class deviation from those conditions, permitting the use of incremental funding of contracts under Phase II of the SBIR program. These two class deviations expired September 30, 2000, the date set forth in the Congressional authorization for the SBIR program. Public Law 106-554, extended the SBIR program through September 30, 2008. This final rule will extend the advance payments and incremental funding class deviations for the life of the SBIR program.

B. Regulatory Flexibility Act

This final rule does not constitute a significant revision within the meaning of FAR 1.501 and Pub. L. 98-577, and publication for public comment is not required. However, comments from small entities concerning the affected NFS subpart will be considered in accordance with 5 U.S.C. 610. Such comments must be submitted separately and should cite 5 U.S.C. 601, et seq.

C. Paperwork Reduction Act

The Paperwork Reduction Act does not apply because the changes to the NFS do not impose recordkeeping or information collection requirements, or collections of information from offerors, contractors, or members of the public which require the approval of the Office of Management and Budget under 44 U.S.C. 3501, et seq.

List of Subjects in 48 CFR Part 32

Government procurement.

Tom Luedtke,
Associate Administrator for Procurement.

Accordingly, 48 CFR Part 32 is amended as follows:

1. The authority citation for 48 CFR part 1832 continues to read as follows:

Authority: 42 U.S.C. 2473 (c)(1).

PART 1832—CONTRACT FINANCING

2. In section 1832.402, revise paragraph (e)(1)(B)(a) to read as follows:

1832.402 General.

(NASA supplements paragraph (e))

(e)(1) * * *

(B) * * *

(a) Small Business Innovation Research (SBIR) and Small Business Technology Transfer (STTR) Phase I contracts. A class deviation has been signed authorizing use of advance payments on these contracts. The contracting officer shall annotate the contract file that the deviation is on file at the NASA Headquarters Office of Procurement (Code HK).

* * * * *

3. In section 1832.702-70, revise paragraph (e) to read as follows:

1832.702-70 NASA policy.

* * * * *

(e) A class deviation from the conditions set forth in paragraphs 1832.702-70(a), (b), and (c) exists to permit incremental funding of contracts under Phase II of the Small Business Innovation Research (SBIR) and Small Business Technology Transfer (STTR) programs. This deviation exists with the understanding that the contracts will be fully funded when funds become available.

[FR Doc. 01-13811 Filed 5-31-01; 8:45 am]

BILLING CODE 7510-01-P